DEPARTMENT OF HOUSING AND URBAN DEVELOPMENT

24 CFR Part 200

[Docket No. FR-5290-P-01]

RIN 2502-AI73

Prohibition of the Escrowing of Tax Credit Equity

Correction

In proposed rule document E9-24338 beginning on page 52354 in the issue of Friday, October 9, 2009, make the following correction:

§200.54 [Corrected]

On page 52356, in §200.54(b), in the third column, in the second line, “where approved by” should read “where approved by the Commissioner in accordance with terms, conditions, and standards established by the Commissioner;”.

[FR Doc. Z9-24338 Filed 10-23-09; 8:45 am]

BILLING CODE 1505-01-D